FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
December 1, 2013 Thru December 31, 2013
12/02/2013
20140135 | G | Almost Family, Inc.; OMNI Home Health Acquisition, LLC; Almost Family, Inc.
20140198 | G | On Assignment, Inc.; Riordan, Lewis & Haden, Inc.; On Assignment, Inc.
20140204 | G | Arsenal Capital Partners III LP; Steven B. Erikson; Arsenal Capital Partners III LP.
20140209 | G | VEPF IV AIV VI, L.P.; Thoma Bravo Fund IX, L.P.; VEPF IV AIV VI, L.P.
20140210 | G | Coller International Partners VI, L.P.; Credit Suisse Group AG; Coller International Partners VI, L.P.
20140220 | G | Roark Capital Partners III LP; Apollo Investment Fund VII, L.P.; Roark Capital Partners III LP.
20140224 | G | TA XI L.P.; Towne Holdings, Inc.; TA XI L.P.
20140228 | G | Charles J. Chanaratsopon Trust U/T/A dated 12/11/2008; Hancock Park Capital III, L.P.; Charles J. Chanaratsopon Trust U/T/A dated 12/11/2008.
20140232 | G | Crestview Partners III, L.P.; NYDJ Apparel, LLC; Crestview Partners III, L.P.
12/03/2013
20140167 | G | Corvex Master Fund LP; Fidelity National Financial, Inc.; Corvex Master Fund LP.
20140229 | G | American Securities Partners VI, L.P.; OCM Telcni-Plex Holdings, L.P.; American Securities Partners VI, L.P.
20140236 | G | Energy Capital Partners II-A, LP; Richland-Stryker Investment LLC; Energy Capital Partners II-A, LP.
20140240 | G | Dr. George D. Yancopoulos; Regeneron Pharmaceuticals, Inc.; Dr. George D. Yancopoulos.
20140241 | G | EIF United States Power Fund IV, L.P.; Global Infrastructure Partners-C, L.P.; EIF United States Power Fund IV, L.P.
20140244 | G | The Goldman Sachs Group, Inc.; Kelso Investment Associates VII, L.P.; The Goldman Sachs Group, Inc.
12/04/2013
20140159 | G | Elliott Associates, L.P.; Riverbed Technology, Inc.; Elliott Associates, L.P.
20140218 | G | Nippon Telegraph and Telephone Corporation; Tailwind Capital Partners, L.P.; Nippon Telegraph and Telephone Corporation.
20140226 | G | David W. Maschhoff Family GST Trust; Michael J. Helgeson; David W. Maschhoff Family GST Trust.
20140227 | G | Kenneth D. Maschhoff Family GST Trust; Michael J. Helgeson; Kenneth D. Maschhoff Family GST Trust.
20140239 | G | ABRY Partners VII, L.P.; Satellite Tracking of People LLC; ABRY Partners VII, L.P.
20140248 | G | Precision Castparts Corp.; Mr. and Mrs. Brian and Christine Leibl; Precision Castparts Corp.
20140249 | G | Deutsche Telekom AG; Verizon Communications Inc.; Deutsche Telekom AG.
20140250 | G | Verizon Communications Inc.; Deutsche Telekom AG; Verizon Communications Inc.
12/05/2013
20140257 | G | CIM Fund III, LP.; Berkeley Point Financial LLC; CIM Fund III, LP.
12/06/2013
20140230 | G | Blackstone Capital Partners (Caymen II) VI L.P.; Pactera Technology International Ltd.; Blackstone Capital Partners (Caymen II) VI L.P.
20140251 | G | Parkland Fuel Corporation; Jeffrey L. Farstad; Parkland Fuel Corporation.
20140254 | G | Avista Corporation; Alaska Energy Resources Company; Avista Corporation.
20140258 | G | Tinicum L.P.; Tinicum Capital Partners II, L.P.; Tinicum L.P.
20140264 | G | Sterling Capital Partners IV, L.P.; Innotrac Corporation; Sterling Capital Partners IV, L.P.
20140268 | G | F.L.P. Trust #11; Hyatt Hotels Corporation; F.L.P. Trust #11.
20140269 | G | F.L.P. Trust #14; Hyatt Hotels Corporation; F.L.P. Trust #14.
20140272 | G | NRG Energy, Inc.; Todd Johnson; NRG Energy, Inc.
20140274 | G | American Securities Partners VI, L.P.; Sun Capital Partners V, L.P.; American Securities Partners VI, L.P.
20140276 | G | First Reserve Fund XII, L.P.; One Rock Voltage Investors, LLC; First Reserve Fund XII, L.P.
20140278 | G | Universal Truckload Services, Inc.; Sebastiao Luis Pereira de Lima c/o SM Brasil Participacoes; Universal Truckload Services, Inc.
20140281 | G | TransDigm Group Incorporated Metalmark Capital Partners, L.P.; TransDigm Group Incorporated.
12/11/2013
20140056 | G | Advance Auto Parts, Inc.; General Parts International, Inc.; Advance Auto Parts, Inc.
20140202 | G | International Business Machines Corporation; Fiberlink Communications Corp.; International Business Machines Corporation.
20140205 | G | Zebra Technology Corporation; Topspin Partners LBO, L.P.; Zebra Technology Corporation.
20140235 | G | TCV VII, L.P.; Spotify Technology S.A.; TCV VII, L.P.
20140265 | G | Moelis Capital Partners Opportunity Fund I, LP; Fair Oaks Anesthesia Associates, P.C.; Moelis Capital.
20140282 | G | Partners Opportunity Fund I, LP, William B. Reily, III; New England Tea & Coffee Co., Inc.; William B. Reily, III.
20140285 | G | Genstar Capital Partners V, L.P.; Charlesbank Equity Fund VI, Limited Partnership; Genstar Capital Partners V. L.P.
12/12/2013
20140184 | G | Orange Capital Offshore I, Ltd.; PHH Corporation; Orange Capital Offshore I, Ltd.
20140221 | G | Carl C. Icahn; Hologic, Inc.; Carl C. Icahn.
12/13/2013
20140208 | G | University Hospitals Health System, Inc.; The Parma Community General Hospital Association; University Hospitals Health System, Inc.
20140252 | G | The Hearst Family Trust; Homecare Homebase, LLC; The Hearst Family Trust.
20140259 | G | Kentz Corporation Limited; Valerus Compression Services, L.P.; Kentz Corporation Limited.
20140270 | G | Catholic Health Initiatives; Baylor College of Medicine; Catholic Health Initiatives.
20140271 | G | Baylor College of Medicine; Catholic Health Initiatives; Baylor College of Medicine.
12/16/2013
20140217 | G | Mylan Inc.; Pfizer Inc.; Mylan Inc.
20140284 | G | New Mountain Partners III, L.P.; Fortegra Financial Corporation; New Mountain Partners III, L.P.
20140286 | G | University Hospitals Health System, Inc.; Comprehensive Health Care of Ohio, Inc.; University Hospitals Health System, Inc.
20140289 | G | Azim H. Premji; Opus Capital Market Consultants, LLC; Azim H. Premji.
20140290 | G | Devon Energy Corporation; GeoSouthem Energy Corporation; Devon Energy Corporation.
20140296 | G | Verizon Communications, Inc.; EdgeCast Networks, Inc.; Verizon Communications, Inc.
12/17/2013
20140219 | G | Grifols, S.A.; Novartis AG; Grifols, S.A.
20140256 | G | Arsenal Capital Partners AIV III LP; Vector Capital International, LP Arsenal Capital Partners AIV III LP.
20140266 | G | Paladin Labs, Inc.; Endo Health Solutions Inc.; Paladin Labs, Inc.
20140267 | G | Ansell Limited; Odyssey Investment Partners Fund IV, L.P.; Ansell Limited.
20140297 | G | Wells Fargo & Company: Apigee Corporation; Wells Fargo & Company.
12/20/2013
20130985 | G | Gannett Co., Inc.; Belo Corp.; Gannett Co., Inc.
20131220 | G | Rockwell Collins, Inc.; Carlyle Partners IV ARINC Holdings, L.P.; Rockwell Collins, Inc.
20140306 | G | Green Equity Investors VI, L.P.; Fifth & Pacific Companies, Inc.; Green Equity Investors VI, L.P.
20140308 | G | KKR Asian Fund II L.P. AIV, a To-Be-Formed Entity; Panasonic Corporation; KKR Asian Fund II L.P. AIV, a To-Be-Formed Entity.
20140309 | G | The WhiteWave Foods Company; Canada Pension Plan Investment Board; The WhiteWave Foods Company.
20140311 | G | XPO Logistics, Inc.; Landstar System, Inc.; XPO Logistics, Inc.
20140312 | G | AT&T Inc.; SoftBank Corporation; AT&T Inc.
20140313 | G | SoftBank Corporation; AT&T Inc.; SoftBank Corporation.
20140314 | G | Comvest Investment Partners IV, L.P.; Amin Rahman Ramjee; Comvest Investment Partners IV, L.P.
12/23/2013
20140253 | G | Henry Schein, Inc.; HealthPoint Capital Partners II, LP; Henry Schein, Inc.
20140303 | G | NCR Corporation; Fandango Holdings Corporation; NCR Corporation.
20140318 | G | Post Holdings, Inc.; TA XI L.P.; Post Holdings, Inc.
12/24/2013
20140300 | G | LKQ Corporation; Platinum Equity Capital Partners II, L.P.; LKQ Corporation.
20140310 | G | Calpine Corporation; Wayzata Opportunities Fund II, L.P.; Calpine Corporation.
20140317 | G | Genuine Parts Company; Mickey M. Hamano; Genuine Parts Company.
20140322 | G | David D. Smith; Robert C. Russel; David D. Smith.
20140324 | G | Steven B. Fader; Robert C. Russel; Steven B. Fader.
20140328 | G | Fairfax Financial Holdings Ltd.; EXCO Resources, Inc.; Fairfax Financial Holdings Ltd.
12/26/2013
20140299 | G | DXP Enterprises, Inc.; Champlain Capital Partners, L.P.; DXP Enterprises, Inc.
12/31/2013
20140307 | G | JDS Uniphase Corporation; Thoma Bravo Fund X, L.P.; JDS Uniphase Corporation.
20140319 | G | Bertram Growth Capital II, L.P.; Maxcess International, LLC; Bertram Growth Capital II, L.P.
20140329 | G | Mark Mitchell; Centene Corporation; Mark Mitchell.
20140330 | G | Centene Corporation; Mark Mitchell; Centene Corporation.
20140332 | G | Blackstone Capital Partners (Caymen) V-NQ L.P.; Todd Batten; Blackstone Capital Partners (Caymen) V-NQ L.P.
20140333 | G | E. Merck KG; AZ Electronic Materials S.A.; E. Merck KG.
20140335 | G | Clayton, Dubilier & Rice Fund IX, L.P.; PharMEDium Healthcare Corporation; Clayton, Dubilier & Rice Fund IX, L.P.
20140338 | G | Macquarie Infrastructure Company LLC; Martin F. Greenberg; Macquarie Infrastructure Company LLC.
20140339 | G | Post Holdings, Inc.; Tricor Pacific Capital Partners (Fund IV), LP; Post Holdings, Inc.
20140343 | G | Seneca Foods Corporation; All Veg, LLC; Seneca Foods Corporation.
20140346 | G | Audax Private Equity Fund IV AIV, L.P.; Evangelos P. Proimos Living Trust UAD 11/19/2003; Audax Private Equity Fund IV AIV, L.P.
20140353 | G | Cummins Inc.; Ben J. Strafuss; Cummins Inc.

FOR FURTHER INFORMATION CONTACT: Renee Chapman, Contact Representative; or Theresa Kingsberry, Legal Assistant, Federal Trade Commission, Premerger Notification Office, Bureau of Competition, Room H-303, Washington, DC 20580, (202) 326-3100.

By direction of the Commission.
Donald S. Clark,
Secretary.

[FR Doc. 2014-00240 Filed 1-10-14; 8:45 am]

BILLING CODE 6750-01-M